DEPARTMENT OF LABOR

Employment and Training Administration

[SGA/DFA-PY 08-04]

Solicitation for Grant Applications (SGA); Technology-Based Learning (TBL) Initiative

AGENCY: Employment and Training Administration (ETA), Labor.

ACTION: Notice: Amendment to SGA/DFA-PY 08-04.

SUMMARY: The Employment and Training Administration published a document in the Federal Register on June 20, 2008, announcing the availability of funds and solicitation for grant applications (SGA) under the TBL Initiative to be awarded through a competitive process. This notice is a second amendment to the SGA and it amends “Part V. Applications Review Process,” under the specific heading “Strength of Partnerships.”

FOR FURTHER INFORMATION CONTACT: James Stockton, Grant Officer, Division of Federal Assistance, at (202) 693-3335.

Supplementary Information Correction: In the Federal Register of June 20, 2008, in FR Doc. E8-13967. On page 35161 under the first (1st) paragraph, under the specific heading “Strength of Partnerships” (8 points) delete the last sentence, “The applicant must designate one organization from the workforce investment or education system from among the application's partners to act as grant recipient.”

DATES: Effective Date: This notice is effective July 14, 2008.

Signed at Washington, DC this 8th day of July, 2008.
James W. Stockton,
Grant Officer.

[FR Doc. E8-15935 Filed 7-11-08; 8:45 am]

BILLING CODE 4510-FN-P